Title 3—

The President

Proclamation 8383 of May 20, 2009

Emergency Medical Services Week, 2009

By the President of the United States of America

A Proclamation

Emergency medical services providers rush into scenes of uncertainty and fear, and they help establish order and calm—and save lives in the process. They include educators, 911 dispatchers, first responders, emergency medical technicians, paramedics, nurses, physicians, and many others. These highly skilled teams respond to emergencies 24 hours a day, 7 days a week.

When Americans find themselves in unexpected life-threatening situations, emergency medical services (EMS) providers provide rapid help. Quality emergency medical care dramatically improves the survival and recovery prospects for those who experience sudden injury or illness. These EMS teams play a vital role in our Nation's overall health and safety, as well as our preparedness for pandemic disease and disasters both natural and man-made.

Emergency medical services providers hail from a variety of backgrounds and circumstances. They work in rural volunteer fire departments, urban hospitals, along our coastal waterways, and among fire-prone western forests. Many spend their off-duty time obtaining extra training and enhancing their lifesaving skills. All share a common aspiration to help those in need, and during Emergency Medical Services Week, we express our appreciation for their critical work.

NOW, THEREFORE, I, BARACK OBAMA, President of the United States of America, by virtue of the authority vested in me by the Constitution and the laws of the United States, do hereby proclaim May 17 through May 23, 2009, as Emergency Medical Services Week. I encourage all Americans to observe this occasion by sharing their support with local EMS workers and taking steps to improve their personal safety and preparedness.

IN WITNESS WHEREOF, I have hereunto set my hand this twentieth day of May, in the year of our Lord two thousand nine, and of the Independence of the United States of America the two hundred and thirty-third.

[FR Doc. E9-12246

Filed 5-21-09; 11:15 am]

Billing code 3195-W9-P